DEPARTMENT OF COMMERCE

National Oceanic and Atmospheric Administration

RIN 0648-XG344

Marine Mammals; File No. 21938

AGENCY: National Marine Fisheries Service (NMFS), National Oceanic and Atmospheric Administration (NOAA), Commerce.

ACTION: Notice; receipt of application.

SUMMARY: Notice is hereby given that the NMFS Southeast Fisheries Science Center (SEFSC), 75 Virginia Beach Drive, Miami, FL 33149 (Responsible Party: Theophilus Brainerd, Ph.D.), has applied in due form for a permit to conduct research on up to 33 species of cetaceans.

DATES: Written, telefaxed, or email comments must be received on or before September 17, 2018.

ADDRESSES: The application and related documents are available for review by selecting “Records Open for Public Comment” from the “Features” box on the Applications and Permits for Protected Species (APPS) home page, https://apps.nmfs.noaa.gov, and then selecting File No. 21938 from the list of available applications.

These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. 21938 in the subject line of the email comment.

Those individuals requesting a public hearing should submit a written request to the Chief, Permits and Conservation Division at the address listed above. The request should set forth the specific reasons why a hearing on this application would be appropriate.

FOR FURTHER INFORMATION CONTACT: Shasta McClenahan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The SEFSC is requesting a five-year permit to conduct cetacean research in U.S. and international waters of the western North Atlantic Ocean, Gulf of Mexico, and Caribbean Sea. The objectives of the research are to meet the mandates of the MMPA and ESA through the study of cetaceans: (1) Stock structure, size estimates, habitat, and geographic range; (2) movement, ranging patterns, and diving behavior; (3) vocalization patterns and the ambient acoustic environment; (4) reproductive status; (5) types and origin of prey; (6) levels of anthropogenic chemical contaminants, and (7) behaviors to certain anthropogenic activities. Up to 33 species of cetaceans may be taken during research including the following ESA-listed species: Blue (Balaenoptera musculus), fin (B. physalus), Gulf of Mexico Bryde's (B. edeni), North Atlantic right (Eubalaena glacialis), sei (B. borealis), and sperm (Physeter microcephalus) whales. Cetaceans may be taken during vessel and aerial surveys, including unmanned aircraft systems for photo-identification, photogrammetry, above and underwater photography and videography, behavioral observations, passive acoustic recordings, biological sampling (exhaled air, feces, sloughed skin, and skin and blubber biopsies), and tagging (suction-cup, dart/barb, and fully-implantable tags). Annual take numbers by species and procedure can be found in the take table of the application.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 13, 2018.
Julia Marie Harrison,
Chief, Permits and Conservation Division, Office of Protected Resources, National Marine Fisheries Service.

[FR Doc. 2018-17695 Filed 8-15-18; 8:45 am]

BILLING CODE 3510-22-P